DEPARTMENT OF HOUSING AND URBAN DEVELOPMENT

[Docket No. FR-5609-N-07]

Notice of Proposed Information Collection for Public Comment on the Assessment of Native American, Alaska Native and Native Hawaiian Housing Needs

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: October 1, 2012.

ADDRESSES: Interested persons are invited to submit comments regarding this proposal. Comments should refer to the proposal by name and should be sent to: Reports Liaison Officer, Office of Policy Development and Research, Department of Housing and Urban Development, 451 Seventh Street SW., Room 8230, Washington, DC 20410.

FOR FURTHER INFORMATION CONTACT: Jennifer Stoloff, Department of Housing and Urban Development, Office of Policy Development and Research, 451 7th Street SW., Room 8120, Washington DC 20401; telephone (202) 402-5723, (this is not a toll free number). Copies of the proposed data collection instruments and other available documents may be obtained from Dr. Stoloff.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including if the information will have practical utility; (2) Evaluate the accuracy of the agency's estimate of the burden of proposed collection of information; (3) Enhance the quality, utility, and clarity of the information to be collected; and (4) Minimize the burden of the collection of information on those who are to respond, including through the use of appropriate automated collection techniques or other forms of information technology, e.g., permitting electronic submission of responses.

This notice also lists the following information:

Title of Proposal: Assessment of Native American, Alaska Native and Native Hawaiian Housing Needs.

Description of the Need for Information and Proposed Use: The Department is conducting this study under contract with The Urban Institute and its subcontractors, NORC, Econometrica and SSI. The project is a housing needs assessment that will produce national level estimates of housing needs in tribal areas in the United States. HUD provides funding though several programs to Native American and Alaskan Native populations, most notably through the Indian Housing Block Grant. The level of housing need is of particular interest to HUD and the Congress has mandated this study. HUD has not published a study on housing needs, in general, for this population since 1996. The surveys covered by this data collection include a household survey of native Hawaiians, living in Hawaii, served by the Department of Hawaiian Home Lands.

Members of the Affected Public: Native Hawaiian households on the DHHL waiting list: 500 surveys total, 10% by telephone, the remainder in-person.

Native Hawaiian households residing in the home lands (potentially): 500 surveys total, 10% by telephone, the remainder in-person.

Estimation of the Total Number of Hours Needed To Prepare the Information Collection

Including Number of Respondents, Frequency of Response, and Hours of Response:

Respondents | Number of respondents | Number responses per respondent | Average burden/response (in hours) | Total burden (in hours)
Household Survey (waiting list) | 500 | 1 | 45 minutes (.75 hour) | 375
Household Survey (home lands residents) | 500 | 1 | 45 minutes (.75 hour) | 375
Total |  |  |  | 750

Status of the Proposed Information Collection: Pending OMB approval.

Authority: Title 13 U.S.C. Section 9(a), and Title 12, U.S.C., Section 1701z-1 et seq.

Dated: July 24, 2012.
Erika C. Poethig,
Acting Assistant Secretary for Policy Development and Research.

[FR Doc. 2012-18816 Filed 7-31-12; 8:45 am]

BILLING CODE 4210-67-P